DEPARTMENT OF THE INTERIOR

National Park Service

[NPS-NERO-GATE-14879; PPNEGATEB0, PPMVSCS1Z.Y00000]

Notice of the February Through August 2014 Meeting Schedule for the Gateway National Recreation Area Fort Hancock 21st Century Advisory Committee

AGENCY: National Park Service, Interior.

ACTION: Meeting notice.

SUMMARY: This notice sets forth the meeting schedule of the Gateway National Recreation Area Fort Hancock 21st Century Advisory Committee (Committee) occurring in February through August 2014.

DATES: The schedule for future public meetings of the Committee is as follows:

1. February 28, 2014, at 9:00 a.m. (EASTERN)

2. April 11, 2014, at 9:00 a.m. (EASTERN)

3. May 30, 2014, at 9:00 a.m. (EASTERN)

4. July 18, 2014, 2014, at 9:00 a.m. (EASTERN)

5. August 22, 2014, at 9:00 a.m. (EASTERN)

ADDRESSES: For the February through August 2014 meetings, the Committee will meet at The Chapel at Sandy Hook, Hartshorne Drive, Middletown, NJ 07732. Please check www.forthancock21stcentury.org for additional information.

Agenda: Committee meeting will consist of the following:

1. Welcome and Introductory Remarks

2. Update on Working Group Progress

3. Assessment of Committee Needs

4. Public Comment

5. Potential Frameworks and Reuse Scenarios

6. Development of Committee Work Plan

7. Future Committee Activities, Meeting Schedule

8. Adjournment

The final agenda will be posted on www.forthancock21stcentury.org prior to each meeting.

FOR FURTHER INFORMATION CONTACT: Further information concerning the meeting may be obtained from John Warren, Park Ranger, Gateway National Recreation Area, 26 Hudson Road, Fort Hancock, NJ, at (732) 872-5908 or email: forthancock21stcentury@yahoo.com, or visit the Committee Web site at www.forthancock21stcentury.org.

SUPPLEMENTARY INFORMATION: Under section 10(a)(2) of the Federal Advisory Committee Act (5 U.S.C. Appendix 1-16), the purpose of the Committee is to provide advice to the Secretary of the Interior, through the Director of the National Park Service, on the development of a reuse plan and on matters relating to future uses of certain buildings at Fort Hancock within Gateway National Recreation Area.

The meeting is open to the public. Interested members of the public may present, either orally or through written comments, information for the Committee to consider during the public meeting. Attendees and those wishing to provide comment are strongly encouraged to preregister through the contact information provided. The public will be able to comment at the February through August meetings from 1:00 p.m. to 1:45 p.m. Written comments will be accepted prior to, during or after the meeting. Due to time constraints during the meeting, the Committee is not able to read written public comments submitted into the record. Individuals or groups requesting to make oral comments at the public committee meeting will be limited to no more than 5 minutes per speaker.

Before including your address, telephone number, email address, or other personal indentifying information in your written comments, you should be aware that your entire comment including your personal identifying information may be made publicly available. While you may ask us in your comment to withhold your personal identifying information from public review, we cannot guarantee that we will be able to do so. All comments will be made part of the public record and will be electronically distributed to all Committee members.

Dated: February 11, 2014.
Alma Ripps,
Chief, Office of Policy.

[FR Doc. 2014-03301 Filed 2-13-14; 8:45 am]

BILLING CODE 4310-WV-P